DEPARTMENT OF THE INTERIOR

Bureau of Land Management

[LLWYD01000-2009-LL13100000-NB0000-LXSI016K0000]

Notice of Annual Tour for the Pinedale Anticline Working Group

AGENCY: Bureau of Land Management, Department of the Interior.

ACTION: Notice.

SUMMARY: In accordance with the Federal Land Policy and Management Act (1976), the Federal Advisory Committee Act (1972), and the Record of Decision (ROD) for the Pinedale Anticline Final Supplemental Environmental Impact Statement (2008), the U.S. Department of the Interior, Bureau of Land Management (BLM) Pinedale Anticline Working Group (PAWG) will conduct its annual tour of the Pinedale Anticline Project Area (PAPA) in Pinedale, Wyoming on Friday, September 25, 2009. The tour is open to the public and will begin at the BLM Pinedale field office at 9 a.m. To take part in the tour, members of the public must RSVP no later than Friday, September 18, 2009.

DATES: Friday, September 25, 2009 at 9 a.m.

ADDRESSES: The tour will begin at the BLM Pinedale Field Office, 1625 West Pine Street, Pinedale, WY. RSVP to Ms. Shelley Gregory, PAWG Designated Federal Officer, Bureau of Land Management, Pinedale Field Office, P.O. Box 768, Pinedale, Wyoming 82941, or shelley_gregory@blm.gov.

FOR FURTHER INFORMATION CONTACT: Ms. Shelley Gregory, PAWG Designated Federal Officer, Bureau of Land Management, Pinedale Field Office, 1625 West Pine Street, P.O. Box 768, Pinedale, Wyoming 82941, (307) 367-5323, shelley_gregory@blm.gov.

SUPPLEMENTARY INFORMATION: The Pinedale Anticline Working Group (PAWG) was authorized and established with release of the Record of Decision (ROD) for the Final Environmental Impact Statement of the Pinedale Anticline Oil and Gas Exploration and Development Project Area (PAPA) on July 27, 2000 and carried forward with the release of the ROD for the Final Supplemental Environmental Impact Statement (FSEIS) of the PAPA on September 12, 2008.

The PAWG advises the BLM on the development and implementation of monitoring plans and adaptive management decisions as PAPA development proceeds. Additional information about the PAWG can be found at: http://www.blm.gov/wy/st/en/field_offices/Pinedale/pawg.html.

Dated: August 4, 2009.
Chuck Otto,
Field Office Manager.

[FR Doc. E9-20607 Filed 8-26-09; 8:45 am]

BILLING CODE 4310-22-P